NUCLEAR REGULATORY COMMISSION

10 CFR Part 72

RIN 3150-AG88

List of Approved Spent Fuel Storage Casks: Standardized NUHOMS®-24P, -52B, and -61BT Revision; Confirmation of Effective Date

AGENCY: Nuclear Regulatory Commission.

ACTION: Direct final rule; confirmation of effective date.

SUMMARY: The Nuclear Regulatory Commission (NRC) is confirming the effective date of February 12, 2002, for the direct final rule that appeared in the Federal Register of November 29, 2001 (66 FR 59531). This direct final rule amended the NRC's regulations by revising the Transnuclear West, Inc. Standardized NUHOMS® -24P, -52B, and -61BT cask system listing within the “List of Approved Spent Fuel Storage Casks” to include Amendment No. 4 to Certificate of Compliance (CoC) No. 1004. Amendment No. 4 allows the storage of low burn-up spent fuel in the NUHOMS®-24 canister. In addition, the Technical Specifications (TS) are revised to correct administrative errors regarding the width dimension of the spent fuel. Specific changes are made to TS 1.2.1 and 1.2.15, Tables 1-1a, 1-1b, 1-1c, 1-1d, 1-2a, and 1-2c, and Figure 1-1. The CoC is revised to change the certificate holder from Transnuclear West, Inc. to Transnuclear Inc. This document confirms the effective date.

DATES: The effective date of February 12, 2002, is confirmed for this direct final rule.

ADDRESSES: Documents related to this rulemaking, including comments received, may be examined at the NRC Public Document Room, 11555 Rockville Pike, Rockville, MD. These same documents may also be viewed and downloaded electronically via the rulemaking web site(http://ruleforum.llnl.gov.) For information about the interactive rulemaking web site, contact Mrs. Carol Gallagher (301) 415-5905; e-mail CAG@nrc.gov.

FOR FURTHER INFORMATION CONTACT: Merri Horn, Office of Nuclear Material Safety and Safeguards, U.S. Nuclear Regulatory Commission, Washington, DC 20555. Telephone (301) 415-8126 (E-mail: mlh1@nrc.gov).

SUPPLEMENTARY INFORMATION: On November 29, 2001 (66 FR 59531), the NRC published in the Federal Register a direct final rule amending its regulations in 10 CFR 72 to revise the Transnuclear West, Inc. Standardized NUHOMS®-24P, -52B, and -61BT cask system listing within the “List of Approved Spent Fuel Storage Casks” to include Amendment No. 4 to Certificate of Compliance (CoC) No. 1004. Amendment No. 4 allows the storage of low burn-up spent fuel in the NUHOMS®-24P canister. In addition, the Technical Specifications (TS) are revised to correct administrative errors regarding the width dimension of the spent fuel. Specific changes are made to TS 1.2.1 and 1.2.15, Tables 1-1a, 1-1b, 1-1c, 1-1d, 1-2a, and 1-2c, and Figure 1-1. The CoC is revised to change the certificate holder from Transnuclear West, Inc. to Transnuclear Inc. In the direct final rule, NRC stated that if no significant adverse comments were received, the direct final rule would become final on the date noted above. The NRC did not receive any comments that warranted withdrawal of the direct final rule. Therefore, this rule will become effective as scheduled.

Dated at Rockville, Maryland, this 4th day of February, 2002.
Michael T. Lesar, Chief,
Rules and Directives Branch, Division of Administrative Services, Office of Administration.

[FR Doc. 02-3109 Filed 2-7-02; 8:45 am]

BILLING CODE 7590-01-P